DEPARTMENT OF STATE

Bureau of Administration

[Public Notice 5086]

Notice of Availability of Alternative Fuel Vehicle (AFV) Report for Fiscal Year 2004

AGENCY: Department of State.

ACTION: Notice.

SUMMARY: The U.S. Department of State, Bureau of Administration, is issuing this notice in order to comply with the Energy Policy Act of 1992 and 42 U.S.C. 13218(b). The purpose of this notice is to announce the public availability of the Department of State's final Fiscal Year 2004 report at the following Web site: http://www.state.gov/m/a/c8503.htm.

FOR FURTHER INFORMATION CONTACT: Questions regarding AFV reports on the State Department Web site should be addressed to the Domestic Fleet Management and Operations Division (A/OPR/GSM/FMO) [Attn: Chappell Garner], 2201 C Street, NW., Room B258, Washington, DC 20520, telephone 202-647-3245.

Dated: May 18, 2005.
Vincent J. Chaverini,
Deputy Assistant Secretary Office of Operations, , Department of State.

[FR Doc. 05-10334 Filed 5-23-05; 8:45 am]

BILLING CODE 4710-24-P